DEPARTMENT OF ENERGY

Federal Energy Regulatory Commission

[Project No. 4202-025]

KEI Power Management, LLC; Notice of Settlement Agreement and Soliciting Comments

Take notice that the following hydroelectric application has been filed with the Commission and is available for public inspection.

a. Type of Application: Settlement Agreement.

b. Project No.: 4202-025.

c. Date Filed: July 23, 2024.

d. Applicant: KEI Power Management, LLC (KEI Power).

e. Name of Project: Lowell Tannery Hydroelectric Project (project).

f. Location: The existing project is located on the Passadumkeag River, in the town of Lowell in Penobscot County, Maine.

g. Filed Pursuant to: Rule 602 of the Commission's Rules of Practice and Procedure, 18 CFR 385.602.

h. Applicant Contact: Mr. Lewis Loon, General Manager, 423 Brunswick Avenue, Gardiner, ME 04345; (207) 203-3025 or lewisc.loon@kruger.com.

i. FERC Contact: Robert Haltner at (202) 502-8612 or robert.haltner@ferc.gov.

j. Deadline for filing comments: August 13, 2024. Reply comments due: August 23, 2024.

The Commission strongly encourages electronic filing. Please file comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Secretary, Federal Energy Regulatory Commission, 888 First Street NE, Room 1A, Washington, DC 20426. Submissions sent via any other carrier must be addressed to: Secretary, Federal Energy Regulatory Commission, 12225 Wilkins Avenue, Rockville, Maryland 20852. All filings must clearly identify the project name and docket number on the first page: Lowell Tannery Hydroelectric Project (P-4202-025).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. KEI Power filed a Settlement Agreement for the project's relicense proceeding, on behalf of itself; the U.S. Fish and Wildlife Service; the National Marine Fisheries Service; the Maine Department of Marine Resources; and the Penobscot Nation. The purpose of the Settlement Agreement is to resolve, among the signatories, relicensing issues related to project operation and fish passage. The Settlement Agreement includes proposed protection, mitigation, and enhancement measures to address: (1) upstream fish passage facilities improvements, modifications, and construction; (2) fish passage monitoring and adaptive management; (3) downstream fish passage enhancements; (4) upstream American eel passage provisions; and (5) fishway operation and maintenance. KEI Power requests that any new license issued by the Commission for the project contain conditions consistent with the provisions of the Settlement Agreement and within the scope of its regulatory authority.

l. A copy of the Settlement Agreement may be viewed on the Commission's website at http://www.ferc.gov using the “eLibrary” link. Enter the docket number, excluding the last three digits in the docket number field, to access the document (i.e., P-4202). For assistance, contact FERC Online Support at FERCOnlineSupport@ferc.gov or call toll free, (886) 208-3676 or TTY (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

Dated: July 25, 2024.
Debbie-Anne A. Reese,
Acting Secretary.

[FR Doc. 2024-16863 Filed 7-31-24; 8:45 am]

BILLING CODE 6717-01-P